DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from November 9 to November 13, 2009.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: January 26, 2010.
J. Paul Loether,
Chief, National Register of Historic Places/National Historic Landmarks Program.

KEY: State, County, Property Name, Address/Boundary, City, Vicinity, Reference Number, Action, Date, Multiple Name

ILLINOIS

Fulton County

East Waterford School, Jct. N. Dickson Mounds Rd. and the E. Prairie Rd., Lewistown vicinity, 09000897, Listed, 11/10/09

Ogle County

Indian Statue, Lowden Memorial State Park, 1411 N. River Rd., Oregon, 09000871, Listed, 11/05/09

Sangamon County

Garvey, Hugh M., House, 8 Fair Oaks Dr., Leland Grove, 09000898, Listed, 11/10/09

LOUISIANA

East Baton Rouge Parish

Downtown Baton Rouge Historic District, 3rd between roughly Main St. and N. Blvd; 210-240 Laurel & 301-355 N. Blvd., Baton Rouge, 09000899, Listed, 11/10/09

MISSOURI

Saline County

Mt. Carmel Historic District, 290th Rd. and MO Hwy 41 N., Marshall vicinity, 09000900, Listed, 11/10/09

St. Louis Independent City

St. Louis Stamping Company Buildings, 101 Cass Ave., St. Louis, 09000902, Listed, 11/10/09

NEBRASKA

Buffalo County

Masonic Temple and World Theater Building, 2318 Central Ave., Kearney, 09000903, Listed, 11/10/09

Cuming County

West Point City Auditorium, 237 N. Main St., West Point, 09000904, Listed, 11/10/09

Thurston County

Picotte, Susan La Flesche, House, 100 Taft, Walthill, 09000905, Listed, 11/10/09

NEW YORK

Greene County

Brandow, William, House, 480 Rt. 385, Athens vicinity, 09000908, Listed, 11/10/09

Onondaga County

Will, Louis, House, 714 N. McBride St., Syracuse, 09000909, Listed, 11/10/09

Saratoga County

Rayfiel, David, House, 1266 Kathan Rd., Day, 09000910, Listed, 11/10/09

OHIO

Montgomery County

Graphic Arts Building, 221-223 S. Ludlow St., Dayton, 09000911, Listed, 11/12/09

Summit County

Main Exchange Historic District, 1 W. Exchange St., 323-337 S. Main St., 12 E. Exchange St., 380-348 S. Main St., 328-326 S. Main St., Akron, 09000912, Listed, 11/12/09

RHODE ISLAND

Providence County

Blackstone Boulevard-Cole Avenue-Grotto Avenue Historic District, Roughly bounded by Blackstone Blvd., Cole Ave., Grotto Ave., President and Rochambeau Aves., Providence, 09000363, Listed, 11/12/09

VERMONT

Chittenden County

Winooski Falls Mills Historic District (Boundary Increase II), 110 W. Canal St., Winooski, 09000916, Listed, 11/12/09

VIRGINIA

Albemarle County

Boyd Tavern, VT 616, Boyd Tavern, 09000919, Listed, 11/12/09

Charlotte County

Annefield, 3200 Sunny Side Rd., Saxe vicinity, 09000920, Listed, 11/12/09

Richmond Independent City

Grace Street Commercial Historic District (Boundary Increase), 626, 700 E. Broad St., 12-118 N. 8th St., 707-715 E. Franklin St., 2-18 and 13 W. Franklin St., Richmond, 09000924, Listed, 11/12/09

Wythe County

Foster Falls Historic District, New River Trail State Park, 176 Orphanage Dr., Max Meadows vicinity, 09000925, Listed, 11/12/09 CORRECTION:

NEVADA

Clark County

Nellis Air Force Base, Nellis Air Force Base, Nellis Air Force Base, 65009979 ON 12/01/09, NELLIS AIR FORCE BASE WAS ERRONEOUSLY REPORTED AS DETERMINED ELIGIBLE. IN FACT, NO DETERMINATION HAS BEEN MADE AND MORE INFORMATION HAS BEEN REQUESTED.

[FR Doc. 2010-2211 Filed 2-2-10; 8:45 am]

BILLING CODE P